NUCLEAR REGULATORY COMMISSION

Peer Review Committee for Source Term Modeling; Notice of Meeting

The Peer Review Committee For Source Term Modeling will hold a closed meeting on September 16, 17, & 18, 2003, at Sandia National Laboratories (SNL), Albuquerque, NM.

The entire meeting will be closed to public attendance to protect information classified as national security information pursuant to 5 U.S.C. 552b(c)(1).

The agenda for the subject meeting shall be as follows:

Tuesday, Sept. 16, Wednesday Sept. 17, and Thursday, Sept. 18, 2003-8:30 a.m. Until the Conclusion of Business

The Committee will review SNL activities and aid SNL in development of guidance documents on source terms that will assist the NRC in evaluations of the impact of specific terrorist activities targeted at a range of spent fuel storage casks and radioactive material (RAM) transport packages.

FOR FURTHER INFORMATION CONTACT: Andrew L. Bates, (telephone 301-415-1963) or Dr. Charles G. Interrante (telephone 301-415-3967) between 7:30 a.m. and 4:15 p.m. (e.t.).

Dated: September 4, 2003.
Andrew L. Bates,
Advisory Committee Management Officer.

[FR Doc. 03-23020 Filed 9-9-03; 8:45 am]

BILLING CODE 7590-01-P